DEPARTMENT OF HEALTH AND HUMAN SERVICES

Centers for Disease Control and Prevention

CDC/ATSDR Educational Loan Repayment Program

AGENCY: Centers for Disease Control and Prevention (CDC), Department of Health and Human Services (DHHS).

ACTION: Notice.

SUMMARY: This notice announces the implementation of the CDC/ATSDR Educational Loan Repayment Program (ELRP) intended to assist in the recruitment and retention of highly qualified health professionals for hard-to-fill positions. The ELRP is a pilot program and will be used for the period permitted by legislation (currently September 30, 2002).

EFFECTIVE DATE: November 1, 2001.

FOR FURTHER INFORMATION CONTACT: Dale J. Indergaard, Compensation Program Manager, CDC, Human Resources Management Office, 4770 Buford Hwy, Mailstop K-07, Atlanta, Georgia, 30341, telephone (770) 488-1756, e-mail: dxi0@cdc.gov.

SUPPLEMENTARY INFORMATION: The Centers for Disease Control and Prevention (CDC) intends to implement an Educational Loan Repayment Program (ELRP) authorized under 42 U.S.C. sect. 247b-7 as a recruitment and retention incentive for highly qualified health professionals in hard-to-fill positions. The ELRP will be implemented on a pilot basis beginning November 1, 2001. During this time frame, up to nine (9) loans to assist in recruitment may be considered for repayment. A participant must have received a bonafide offer of employment from CDC to be eligible to participate in the ELRP. Additionally, loans to assist in the retention of current CDC employees will be considered. Approximately April 1, 2002, CDC will conduct an analysis of the effectiveness of the ELRP in its recruitment and retention efforts and will determine whether continuation of the ELRP is warranted.

Under the ELRP, a maximum of $35,000 a year (plus 39 per cent of total loan repayment for tax credit as loan repayment benefits represent taxable income) may be repaid toward a participant's outstanding eligible educational debt. The participant is responsible for a loan repayment equal to a total of 10 percent of his/her annual CDC base salary, while the ELRP will repay at a rate of ⅓ of the remaining repayable debt (up to the maximum allowable) for each of the three years. The participant must sign a contract agreeing to remain employed by CDC for a period of not less than three years. Failure to complete the minimum three-year service agreement period will be considered a breach of contract and will subject the ELRP participant to assessment of monetary penalties and damages. Actual loan repayment amounts are based on the proportion of a participant's qualifying debt relative to his/her beginning CDC base salary.

Overall ELRP eligibility requirements:

a. Be a citizen of the United States;

b. Hold a relevant Doctoral degree or equivalent;

c. Have been selected for a vacant position or is currently assigned to a covered hard-to-fill health professional occupational series at CDC/ATSDR; and,

d. Have a qualifying educational debt in excess of 20 percent of their annual CDC base salary.

Dated: October 23, 2001.
Joseph R. Carter,
Associate Director for Management and Operations, Centers for Disease Control and Prevention (CDC).

[FR Doc. 01-27098 Filed 10-26-01; 8:45 am]

BILLING CODE 4163-18-P